DEPARTMENT OF JUSTICE

Notice of Lodging of Consent Decree Under the Comprehensive Environmental Response, Compensation, and Liability Act

Notice is hereby given that on April 1, 2005, an electronic version of a proposed consent decree was lodged in United States v. Helena Chemical Company, Civil Action No. 1:05-985 (D.S.C.). The consent decree settles the United States' claims against Helena Chemical Company under section 107 of the Comprehensive Environmental Response, Compensation, and Liability Act (“CERCLA”), 42 U.S.C. 9607, in connection with the Helena Chemical Superfund Sites: The Helena Superfund Site located on Highway 321 South, approximately one mile south of Fairfax, Allendale County, South Carolina and the Helena Superfund Site located at 2405 North 71st Street in Tampa, Hillsborough County, Florida (the “Sites”). The proposed decree is a final consent decree for past and future costs incurred at both sites. Under the terms of the consent decree, Defendant, Helena Chemical Company, will pay to the United States the sum of $998,500.00 plus interest for past costs incurred by the United States in connection with remedial action at both sites to be paid in six installments within 630 days of entry of the Lodged consent decree. Defendant also agrees to pay all future oversight costs incurred by the United States in connection with remedial actions at both sites.

The Department of Justice will receive for a period of thirty (30) days from the date of this publication comments relating to the consent decree. Comments should be addressed to the Assistant Attorney General, Environment and Natural Resources Division, P.O. Box 7611, U.S. Department of Justice, Washington, DC 20044-7611, and should refer to United States v. Helena Chemical Company, Civil Action No. 1:05-985 (D.S.C.) and DOJ #90-11-3-07136.

The consent decree may be examined at the Office of the United States Attorney for the District of South Carolina, 1441 Main Street, Columbia, South Carolina 29201. During the public comment period, the consent decree may be examined on the following Department of Justice Web site: http:www.usdoj.gov/enrd/open.html. A copy of the consent decree may also be obtained by mail from the Consent Decree Library, P.O. Box 7611, U.S. Department of Justice, Washington, DC 20044-7611, or by faxing or e-mailing a request to Tonia Fleetwood, tonia.fleetwood@usdoj.gov, Fax No. (202) 514-0097 phone confirmation number (202) 514-1547. In requesting a copy from the Consent Decree Library, please enclose a check in the amount of $6.75 (25 cents per page reproduction cost) payable to the U.S. Treasury.

Ellen M. Mahan,
Assistant Section Chief, Environmental Enforcement Section, Environment and Natural Resources Division.

[FR Doc. 05-10486 Filed 5-25-05; 8:45 am]

BILLING CODE 4410-15-M